DEPARTMENT OF JUSTICE

Antitrust Division

Notice Pursuant to The National Cooperative Research and Production Act of 1993—Portland Cement Association

Notice is hereby given that, on October 16, 2001, pursuant to Section 6(a) of the National Cooperative Research and Production Act of 1993, 15 U.S.C. 4301 et seq. (“the Act”), Portland Cement Association (“PCA”) has filed written notifications simultaneously with the Attorney General and the Federal Trade Commission disclosing changes in its membership status. The notifications were filed for the purpose of extending the Act's provisions limiting the recovery of antitrust plaintiffs to actual damages under specified circumstances. Specifically, CSR Rinker Materials, West Palm Beach, FL has changed its name to Rinker Materials Corporation; Blue Circle Canada, Detroit, MI has changed its name to St. Marys Cement (U.S.); Blue Circle Canada, Toronto, Ontario, Canada has changed its name to St. Marys Cement (Canada); Lafarge Corporation, Herndon, VA has changed its name to Lafarge North America Inc.; and Rio Grande Portland Cement, Albuquerque, NM has changed its name to GCC Rio Grande. Also, Blue Circle, Marietta, GA is no longer a party to this venture.

No other changes have been made in either the membership or planned activity of the group research project. Membership in this group research project remains open, and PCA intends to file additional written notification disclosing all changes in membership.

On January 7, 1985, PCA filed its original notification pursuant to Section 6(a) of the Act. The Department of Justice published a notice in the Federal Register pursuant to Section 6(b) of the Act of February 5, 1985 (50 FR 5015).

The last notification was filed with the Department on July 25, 2001. A notice was published in the Federal Register pursuant to section 6(b) of the Act on September 25, 2001 (66 FR 49044).

Constance K. Robinson,
Director of Operations, Antitrust Division.

[FR Doc. 01-30163 Filed 12-4-01; 8:45 am]

BILLING CODE 4410-11-M